DEPARTMENT OF NUCLEAR REGULATORY COMMISSION

[Docket No. 050-206, 050-361, and 050-362]

Notice of Availability of Environmental Assessment and Finding of No Significant Impact for an Exemption From Certain Control and Tracking Requirements in 10 CFR Part 20 Appendix G Section III.E for the San Onofre Nuclear Generating Station in San Diego County, CA

I. Introduction

The U.S. Nuclear Regulatory Commission (NRC) is considering the issuance of an exemption from certain control and tracking requirements in 10 CFR part 20 for the San Onofre Nuclear Generating Station (SONGS). The SONGS site consists of two operating reactors and a permanently shutdown nuclear reactor facility located in San Diego County, California. Inherent to the decommissioning process, large volumes of slightly contaminated rubble and debris are generated and require disposal. On January 26, 2004, Southern California Edison (the licensee) requested an exemption from the requirements in 10 CFR part 20, appendix G section III.E to investigate and file a report to the NRC if shipments of low-level radioactive waste are not acknowledged by the intended recipient within 20 days after transfer to the shipper. This exemption would extend the time period that can elapse during shipments of low-level radioactive waste before the licensee is required to investigate and file a report to the NRC from 20 days to 35 days. The exemption request is based on a statistical analysis of the historical data of low-level radioactive waste shipment times from the licensee's site to the disposal site using rail or combination truck/rail shipping methods. The NRC staff has prepared an environmental assessment (EA) in support of this action, in accordance with the requirements of 10 CFR part 51. The conclusion of the EA is a Finding of No Significant Impact (FONSI) for the proposed action.

II. EA Summary

The proposed action would grant an exemption to extend the 20-day investigation and reporting requirements for shipments of low-level radioactive waste to 35 days. Since 1999, the licensee has made over 150 shipments of low-level radioactive waste as part of the decommissioning efforts at the facility. MHF Logistical Solutions (MHF) is the rail broker company used by the licensee to perform these shipments. MHF Logistical Solutions has a tracking system that monitors the progress of the shipments from their originating point at SONGS until they arrive to their final destination at Envirocare in Clive, Utah. The shipments are made by either rail or combination truck/rail. According to the licensee, the transportation time alone by either rail or combination truck/rail took over 16 days on average, with one shipment taking 57 days to arrive at Envirocare.

In addition to this time, administrative procedures at Envirocare and mail delivery could add up to 11 additional days. Based on historical data and estimates of the remaining waste at SONGS Unit 1, the licensee could have to perform over 100 investigations and reports to the NRC during the next five years if the 20-day shipping criteria is maintained. The licensee affirms that the low-level radioactive waste shipments will always be tracked throughout transportation until they arrive at their intended destination. The licensee believes that the need to investigate, trace, and report to the NRC on the shipment of low-level radioactive waste packages not reaching their destination within 20 days does not serve the underlying purpose of the rule and it is not necessary. As a result, the licensee states that granting this exemption will not result in an undue hazard to life or property.

The NRC has examined the licensee's proposed exemption request and concluded that it is procedural and administrative in nature. There are no significant radiological environmental impacts associated with this exemption, and it will not result in significant nonradiological environmental impacts.

III. Finding of No Significant Impact

NRC has prepared the EA (summarized above) in support of the licensee's application for an exemption request. On the basis of the environmental assessment, the NRC concludes that the proposed action will not have a significant effect on the quality of the human environment. Accordingly, the NRC has determined not to prepare an environmental impact statement for the proposed action.

IV. Further Information

The EA and the documents related to this proposed action, including the request for the exemption, are available for inspection at the NRC Public Electronic Reading Room at the following address: http://www.nrc.gov/reading-rm/pdr.html. The ADAMS accession number for the licensee's exemption request letter dated January 26, 2004 is ML040330945. The ADAMS accession number for the EA is ML040780782. Persons who do not have access to ADAMS, or who encounter problems in accessing the documents located in ADAMS, should contact the NRC Public Document Room (PDR) reference staff by telephone at 1-800-397-4209 or 301-415-4737. They can also be reached via e-mail at pdr@nrc.gov. Documents may also be examined, and/or copied for a fee, at the NRC PDR, located at One White Flint North, 11555 Rockville Pike, Rockville, MD 20852. Any questions with respect to this action should be referred to Mr. William C. Huffman, Division of Waste Management and Environmental Protection, Office of Nuclear Material Safety and Safeguards. He can be reached at (301) 415-1141.

For the Nuclear Regulatory Commission.
Dated in Rockville, Maryland, this 21st day of April, 2004.
Daniel M. Gillen,
Deputy Director, Decommissioning Directorate, Division of Waste Management and Environmental Protection, Office of Nuclear Material Safety and Safeguards.

[FR Doc. E4-955 Filed 4-27-04; 8:45 am]

BILLING CODE 7590-01-P